FEDERAL COMMUNICATIONS COMMISSION

Notice of Public Information Collection(s) Being Reviewed by the Federal Communications Commission

May 9, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 19, 2002. If you anticipate that you will be submitting comments, but find it difficult to do so within the period of time allowed by this notice, you should advise the contact listed below as soon as possible.

ADDRESSES: Direct all comments to Judith Boley Herman, Federal Communications Commission, Room 1-C804, 445 12th Street, SW., DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0954.

Title: Implementation of the 911 Act.

Form No.: N/A.

Type of Review: Extension of a currently approved collection.

Respondents: Business or other for-profit, state, not-for-profit institutions, and state, local or tribal governments.

Number of Respondents: 800.

Estimated Time Per Response: .50-2 hours (average).

Frequency of Response: Third party disclosure requirement, on occasion reporting requirement.

Total Annual Burden: 3,100 hours.

Total Annual Cost: N/A.

Needs and Uses: On January 11, 2002, the Commission received emergency OMB approval for information collection burdens contained in rules adopted in a Fifth Report and Order, in CC Docket No. 92-105, First Report and Order in WT Docket No. 00-110, and Memorandum Opinion and Order on Reconsideration in both dockets, regarding implementation of the Wireless Communications and Public Safety Act of 1999. The approval expires on June 30, 2002. Therefore, the Commission now resubmits this information collection, with no change, to the Office of Management and Budget for the regular three-year approval. The Commission requires certain carriers to file various transition reports. Those affected carriers are only: (1) Those operating in counties where there is no 911 service; (2) those operating in counties that are in the process of implementing 911; or (3) those operating in counties that have basic 911 service only in some parts as summarized by the National Emergency Number Association (NENA) in its Report Card to the Nation (Congressional Summary, 2001), and more specifically identified in the list NENA has submitted at the Commission's request. In addition, in March 2002, the Commission issued a Public Notice in which it offered a suggested template or sample as an optional guide to completing these reports. The coordination requirements will help to minimize the chances of confusion between all concerned parties and will improve the chances of a smooth, speedy transition to 911 service.

Federal Communications Commission.
Marlene H. Dortch,
Secretary.

[FR Doc. 02-12507 Filed 5-17-02; 8:45 am]

BILLING CODE 6712-01-P